DEPARTMENT OF HOUSING AND URBAN DEVELOPMENT

[Docket No. FR-6460-N-03]

Notice of Regulatory Waiver Requests Granted for the Third Quarter of Calendar Year 2024

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2024 and ending on September 30, 2024.

FOR FURTHER INFORMATION CONTACT: For general information about this notice, contact Aaron Santa Anna, Associate General Counsel for Legislation and Regulations, Department of Housing and Urban Development, 451 7th Street SW, Room 10282, Washington, DC 20410-0500, telephone 202-708-5300 (this is not a toll-free number). HUD welcomes and is prepared to receive calls from individuals who are deaf or hard of hearing, as well as individuals with speech and communication disabilities.

To learn more about how to make an accessible telephone call, please visit please visit: https://www.fcc.gov/consumers/guides/telecommunications-relay-service-trs.

For information concerning a particular waiver that was granted and for which public notice is provided in this document, contact the person whose name and address follow the description of the waiver granted in the accompanying list of waivers that have been granted in the third quarter of calendar year 2024.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2024 through September 30, 2024. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2024) before the next report is published (the fourth quarter of calendar year 2024), HUD will include any additional waivers granted for the third quarter in the next report. Accordingly, information about approved waiver requests pertaining to HUD regulations is provided in the Appendix that follows this notice.

Matthew Ammon,
Acting Deputy Secretary.

Appendix

Listing of Waivers of Regulatory Requirements Granted by Offices of the Department of Housing and Urban Development July 1, 2024 Through September 30, 2024

Note to Reader: More information about the granting of these waivers, including a copy of the waiver request and approval, may be obtained by contacting the person whose name is listed as the contact person directly after each set of regulatory waivers granted.

The regulatory waivers granted appear in the following order:

I. Regulatory waivers granted by the Office of Community Planning and Development

II. Regulatory waivers granted by the Office of Housing

III. Regulatory waivers granted by the Office of Public and Indian Housing

I. Regulatory Waivers Granted by the Office of Community Planning and Development

For further information about the following regulatory waivers, please see the name of the contact person that immediately follows the description of the waiver granted.

• Regulation: 24 CFR 92.203(a)(1) and (2).

Project/Activity: Projects located in the declared-disaster areas (DR-4776-OK, DR-4778-NE, DR-4781-TX, DR-4783-WV, DR-4784-IA, DR-4786-NE, DR-4787-WV, DR-4785-ME, DR-4788-AR, DR-4789-ID, DR-4791-OK, DR-4794-FL, DR-4792-TN, DR-4793-HI, DR-4795-NM, DR-4796-IA).

Nature of Requirement: These sections of the HOME regulation require initial income determinations for HOME beneficiaries by examining source documents covering the most recent two months.

Granted by: Marion M. McFadden, Principal Deputy Assistant Secretary for Community Planning and Development.

Date Granted: July 1, 2024.

Reason Waived: This waiver permits the participating jurisdictions to use self-certification of income, as provided in § 92.203(a)(1)(ii), in lieu of source documentation to determine eligibility for HOME assistance of persons displaced by the disaster.

Applicability: These waivers are only available to participating jurisdictions within the declared-disaster areas or the State participating jurisdiction of the declared-disaster areas to assist those displaced by the disaster. This waiver applies only to families displaced by the disaster (as documented by FEMA registration) whose income documentation was destroyed or made inaccessible by the disaster and remains in effect for six months from the date the participating jurisdiction notifies HUD of its intent to use this waiver. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 7th Street SW, Room 7160, Washington, DC 20410, telephone (202) 708-2684.

• Regulation: 24 CFR 92.209(e), (h)(1), and (i).

Project/Activity: Projects located in the declared-disaster areas (DR-4776-OK, DR-4778-NE, DR-4781-TX, DR-4783-WV, DR-4784-IA, DR-4786-NE, DR-4787-WV, DR-4785-ME, DR-4788-AR, DR-4789-ID, DR-4791-OK, DR-4794-FL, DR-4792-TN, DR-4793-HI, DR-4795-NM, DR-4796-IA).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted by: Marion M. McFadden, Principal Deputy Assistant Secretary for Community Planning and Development.

Date Granted: July 1, 2024.

Reason Waived: Waiving these provisions will provide the participating jurisdiction with greater flexibility to use tenant-based rental assistance as an emergency housing resource.

Applicability: All of these waivers are only available to a participating jurisdiction within the declared-disaster areas or the State participating jurisdiction of the declared-disaster areas providing TBRA to those displaced by the disaster, in accordance with the applicable conditions described below.

The requirement in 24 CFR 92.209(e) that the start date of a TBRA contract begin on the first day of the term of a tenant's lease is waived for TBRA contracts a participating jurisdiction executes for persons or families displaced by the disaster, as evidenced by the tenant's FEMA registration or other relevant documentation acceptable to the PJ, for a period of 24 months after the date the participating jurisdiction notifies HUD of its intent to use this waiver. The other requirements in 24 CFR 92.209(e) are not waived. The provision of 24 CFR 92.209(h)(1) imposing the maximum amount of TBRA assistance a participating jurisdiction may provide to a family under HOME TBRA is waived for TBRA recipients who are displaced by the disaster, as evidenced by the family's FEMA registration, for a period of 24 months after the date the participating jurisdiction notifies HUD of its intent to use this waiver. The other provisions of 24 CFR 92.209(h) are not waived.

The waiver of the housing quality standards requirements at 24 CFR 92.209(i) applies to units leased by TBRA recipients who were displaced by the disaster, as evidenced by the recipient's FEMA registration, and are being assisted through a HOME TBRA program funded by the participating jurisdiction for a period of 24 months after the date the participating jurisdiction notifies HUD of its intent to use this waiver. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Office of Community Planning and Development, Department of Housing and Urban Development, 451 Seventh Street SW, Room 7160, Washington, DC 20410, telephone (202) 708-2684.

• Regulation: 24 CFR 92.222(b)(1).

Project/Activity: Projects located in the declared-disaster areas (DR-4776-OK, DR-4778-NE, DR-4781-TX, DR-4783-WV, DR-4784-IA, DR-4786-NE, DR-4787-WV, DR-4785-ME, DR-4788-AR, DR-4789-ID, DR-4791-OK, DR-4794-FL, DR-4792-TN, DR-4793-HI, DR-4795-NM, DR-4796-IA).

Nature of Requirement: Section 220(a) of NAHA (42 U.S.C. 12750(a)) and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and § 92.222(b) also permit HUD to reduce this matching requirement for a participating jurisdiction located in a declared-disaster area for any funds drawn from a participating jurisdiction's HOME Investment Trust Fund by up to 100 percent during any part of a fiscal year impacted by the disaster. However, § 92.222(b)(1) imposes certain conditions in granting the reduction to the matching requirement which HUD has determined there is sufficient good cause to waive.

Granted by: Marion M. McFadden, Principal Deputy Assistant Secretary for Community Planning and Development.

Date Granted: July 1, 2024.

Reason Waived: Given the urgent housing needs created by the disaster and the substantial financial impact the participating jurisdiction will face in addressing those needs, the approval of a 100 percent match reduction for participating jurisdictions in the declared-disaster areas, rather than on an case-by-case basis, will relieve administrative and financial burden on affected participating jurisdictions by expediting the process for reduction and the need to identify and provide matching contributions to HOME projects.

Applicability: This match reduction applies to funds expended by a participating jurisdiction located in the declared-disaster areas from October 1, 2023, through September 30, 2025. The waiver also applies to State-funded HOME projects located in declared-disaster areas.

Contact: Virginia Sardone, Director, Office of Affordable Housing Programs, Office of Community Planning and Development, Department of Housing and Urban Development, 451 Seventh Street SW, Room 7160, Washington, DC 20410, telephone (202) 708-2684.

• Regulation: 24 CFR 92.251.

Project/Activity: Projects located in the declared-disaster areas (DR-4776-OK, DR-4778-NE, DR-4781-TX, DR-4783-WV, DR-4784-IA, DR-4786-NE, DR-4787-WV, DR-4785-ME, DR-4788-AR, DR-4789-ID, DR-4791-OK, DR-4794-FL, DR-4792-TN, DR-4793-HI, DR-4795-NM, DR-4796-IA).

Nature of Requirement: This provision requires that housing assisted with HOME funds meet property standards based on the activity undertaken, i.e., acquisition of housing including through homebuyer assistance, and state and local standards and codes or model codes for rehabilitation and new construction. Property standard requirements are waived for repair of properties damaged by the disaster.

Granted by: Marion M. McFadden, Principal Deputy Assistant Secretary for Community Planning and Development.

Date Granted: July 1, 2024.

Reason Waived: This waiver is required to enable the participating jurisdiction to meet the critical housing needs of families whose housing was damaged and families who were displaced by the disaster.

Applicability: This waiver applies only to housing units located in the declared-disaster areas which were damaged by the disaster and to which HOME funds are committed within two years of the date the participation jurisdiction notifies HUD of its intent to use this waiver. Units must meet State and local health and safety codes. The lead housing safety regulations established in 24 CFR part 35 are not waived. Also, accessibility requirements at 24 CFR 92.251(a)(2)(i) are not waived.

Contact: Virginia Sardone, Director, Office of Affordable Housing Programs, Office of Community Planning and Development, Department of Housing and Urban Development, 451 Seventh Street SW, Room 7160, Washington, DC 20410, telephone (202) 708-2684.

• Regulation: 24 CFR 92.252(d)(1).

Project/Activity: The State of California and Kern County, California requested waivers of 24 CFR 92.252(d)(1) to allow the use of the utility allowance established by the local public housing agency (PHA) for Girasol Project (California) and Pioneer Cottages (Kern County, California), two HOME-assisted rental projects.

Nature of Requirement: The HOME requirements for establishing utility allowances conflict with Project Based Voucher program requirements. It is not possible to use two different utility allowances to set the rent for a single unit and it is administratively burdensome to require a project owner to establish and implement different utility allowances for HOME-assisted and non-HOME assisted units in a project.

Granted by: Marion M. McFadden, Principal Deputy Assistant Secretary for Community Planning and Development.

Date Granted: July 1, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development, Department of Housing and Urban Development, 451 Seventh Street SW, Room 7160, Washington, DC 20410, telephone (202) 708-2684.

• Regulations: 24 CFR 92.252(e) and 24 CFR 92.254(a)(4).

Project/Activity: The State of Hawaii requested a waiver of 24 CFR 92.252(e) and 24 CFR 92.254(a)(4) to allow the State to reduce the periods of affordability of the West Maui Resource Center and the Kahoma Residential Subdivision, two HOME projects that were destroyed in a wildfire, to each property's useful life.

Nature of Requirement: These provisions require that HOME-assisted units meet the affordability requirements for not less than the applicable period specified in the regulations, beginning after project completion.

Granted by: Marion M. McFadden, Principal Deputy Assistant Secretary for Community Planning and Development.

Date Granted: July 1, 2024.

Reason Waived: HUD's approval of the State's request for waivers of 24 CFR 92.252(e) and 24 CFR 92.254(a)(4) will eliminate the need for the State to repay its HOME account in an amount equal to its HOME investment in the destroyed projects, thereby enabling the State to retain its resources to address the urgent housing needs caused by the disaster.

Contact: Virginia Sardone, Director, Office of Affordable Housing Programs, Office of Community Planning and Development, Department of Housing and Urban Development, 451 Seventh Street SW, Room 7160, Washington, DC 20410, telephone (202) 708-2684.

• Regulation: 24 CFR 92.252(a).

Project/Activity: The Commonwealth of Puerto Rico requested a waiver of 24 CFR 92.252(a) to permit it to immediately implement HUD's determination that the HOME rent limits do not apply to payments provided under a Federal or State rental assistance or subsidy program for the Santa Juanita Elderly project.

Nature of Requirement: In order to qualify as affordable housing, the HOME-assisted rental units must be occupied by households that are eligible as low-income families who pay a rent that does not exceed the limits at 24 CFR 92.252(a). This regulation restricts the rent limits (the amount of rent plus utilities) that apply to HOME-assisted units in rental projects. Nevertheless, the Housing and Economic Recovery Act of 2008 (HERA) brought significant reforms to HUD's Section 8 Tenant-Based Voucher and Project-Based Voucher programs by amending the U.S. Housing Act of 1937. One of the changes required by section 2835(a)(2) of HERA added section 8(o)(10)(F) to the 1937 Act (42 U.S.C. 1437f(o)(10)(F)) which streamlined the procedure for determining the rent reasonableness standard for assistance under the Section 8 Tenant-Based Voucher program in units receiving LIHTC or HOME funds. Under this procedure, LIHTC and HOME rents used at a property are not to be used for the rents that the Section 8 Housing Choice Voucher (HCV) administrator will pay for a LIHTC or HOME unit. However, the HERA Final Rule did not fully implement the streamlined process for HOME-assisted units. To align with HERA, HUD determined that the HOME rent limits specified in 24 CFR 92.252(a) do not apply to payments provided under a Federal or State rental assistance or subsidy program and included required revisions to apply this determination in the proposed HOME rule.

Granted by: Marion M. McFadden, Principal Deputy Assistant Secretary for Community Planning and Development.

Date Granted: July 23, 2024.

Reason Waived: HUD made a statutory determination that HERA requires the revisions in the proposed rule which would permit an owner to receive the rent determined under a Federal or State rental assistance or subsidy program even if the rent under the program exceeds the HOME rent limits. This waiver would facilitate the development of affordable housing in the Commonwealth by foregoing the need to await the publication of the HOME Final Rule and allowing the Commonwealth to commit HOME funds promptly to a project with a Section 8 HAP contract. When addressing over-income tenants in the Santa Juanita Elderly project.

Contact: Virginia Sardone, Director, Office of Affordable Housing Programs, Office of Community Planning and Development, Department of Housing and Urban Development, 451 Seventh Street SW, Room 7160, Washington, DC 20410, telephone (202) 708-2684.

• Regulation: 24 CFR 92.103(b)(3).

Project/Activity: The City of Bowling Green, Kentucky requested a waiver of 24 CFR 92.103(b)(3) to allow additional time for its Board of Commissioners (BOC) to budget and approve the balance of funding needed to become a participating jurisdiction.

Nature of Requirement: This regulation applies to a unit of general local government that intends to become a participating jurisdiction and qualified for a formula allocation of less than $500,000 in fiscal years in which Congress appropriates less than $1.5 billion for the HOME program. In such cases, this provision requires that the unit of general local government must submit, with its notice of intent, evidence that it has met the threshold allocation requirements of 24 CFR 92.102(b) including a letter from its chief executive officer indicating that the required funds have been approved and budgeted.

Granted by: Marion M. McFadden, Principal Deputy Assistant Secretary for Community Planning and Development.

Date Granted: August 28, 2024.

Reason Waived: The Department has determined that a waiver is justified based on the need for the City's BOC to budget and approve the balance of funds needed to meet the HOME participation threshold of $500,000. This waiver will ensure that the City has enough time to budget and approve the funding, so that it may become a HOME participating jurisdiction.

Contact: Virginia Sardone, Director, Office of Affordable Housing Programs, Office of Community Planning and Development, Department of Housing and Urban Development, 451 Seventh Street SW, Room 7160, Washington, DC 20410, telephone (202) 708-2684.

• Regulation: 24 CFR 92.103(b)(3).

Project/Activity: The City of Cape Coral, Florida requested a waiver of 24 CFR 92.103(b)(3) to allow additional time for it to budget and approve the balance of funding needed to meet the participation threshold to become a participating jurisdiction.

Nature of Requirement: This regulation applies to a unit of general local government that intends to become a participating jurisdiction and qualified for a formula allocation of less than $500,000 in fiscal years in which Congress appropriates less than $1.5 billion for the HOME program. In such cases, this provision requires that the unit of general local government must submit, with its notice of intent, evidence that it has met the threshold allocation requirements of 24 CFR 92.102(b) including a letter from its chief executive officer indicating that the required funds have been budgeted and approved.

Granted by: Marion M. McFadden, Principal Deputy Assistant Secretary for Community Planning and Development.

Date Granted: August 28, 2024.

Reason Waived: The Department has determined that a waiver is justified based on the need for the City Council to budget and approve the balance of funds needed to meet the HOME participation threshold of $500,000. This waiver will ensure that the City has enough time to budget and approve the funding, so that it may become a participating jurisdiction.

Contact: Virginia Sardone, Director, Office of Affordable Housing Programs, Office of Community Planning and Development, Department of Housing and Urban Development, 451 Seventh Street SW, Room 7160, Washington, DC 20410, telephone (202) 708-2684.

• Regulation: 24 CFR 92.103(b)(3).

Project/Activity: The City of Homestead, Florida requested a waiver of 24 CFR 92.103(b)(3) to allow additional time for it to budget and approve the balance of funding needed to meet the participation threshold to become a participating jurisdiction.

Nature of Requirement: This regulation applies to a unit of general local government that intends to become a participating jurisdiction and has qualified for a formula allocation of less than $500,000 in fiscal years in which Congress appropriates less than $1.5 billion for the HOME program. In such cases, this provision requires that the unit of general local government must submit, with its notice of intent, evidence that it has met the threshold allocation requirements of 24 CFR 92.102(b) including a letter from its chief executive officer indicating that the required funds have been budgeted and approved.

Granted by: Marion M. McFadden, Principal Deputy Assistant Secretary for Community Planning and Development.

Date Granted: August 28, 2024.

Reason Waived: The Department has determined that a waiver is justified based on the need for the City Council to budget and approve the balance of funds needed to meet the HOME participation threshold of $500,000. This waiver will ensure that the City has enough time to budget and approve the funding, so that it may become a participating jurisdiction.

Contact: Virginia Sardone, Director, Office of Affordable Housing Programs, Office of Community Planning and Development, Department of Housing and Urban Development, 451 Seventh Street SW, Room 7160, Washington, DC 20410, telephone (202) 708-2684.

• Regulation: 24 CFR 92.103(b)(3).

Project/Activity: The City of Madera, California requested a waiver of 24 CFR 92.103(b)(3) to allow additional time for it to budget and approve the balance of funding needed to meet the participation threshold to become a participating jurisdiction.

Nature of Requirement: This regulation applies to a unit of general local government that intends to become a participating jurisdiction and qualified for a formula allocation of less than $500,000 in fiscal years in which Congress appropriates less than $1.5 billion for the HOME program. In such cases, this provision requires that the unit of general local government must submit, with its notice of intent, evidence that it has met the threshold allocation requirements of 24 CFR 92.102(b) including a letter from its chief executive officer indicating that the required funds have been budgeted and approved.

Granted by: Marion M. McFadden, Principal Deputy Assistant Secretary for Community Planning and Development.

Date Granted: August 28, 2024.

Reason Waived: The Department has determined that a waiver is justified based on the need for the City Council to budget and approve the balance of funds needed to meet the HOME participation threshold of $500,000. This waiver will allow HUD to accept the City's August 7, 2024, resolution as evidence of compliance with the threshold allocation requirements at 24 CFR 92.102(b), so that the City may become a HOME participating jurisdiction.

Contact: Virginia Sardone, Director, Office of Affordable Housing Programs, Office of Community Planning and Development, Department of Housing and Urban Development, 451 Seventh Street SW, Room 7160, Washington, DC 20410, telephone (202) 708-2684.

• Regulation: 24 CFR 92.252(d)(1).

Project/Activity: Contra Costa County, California and Santa Rosa, California requested waivers of 24 CFR 92.252(d)(1) to allow the use of the utility allowance established by the local public housing agency (PHA) for Chesley Mutual Housing (Contra Costa County, California) and Laurel at Perennial Park Phase II (Santa Rosa, California), two HOME-assisted rental projects.

Nature of Requirement: The HOME requirements for establishing utility allowances conflict with Project Based Voucher program requirements. It is not possible to use two different utility allowances to set the rent for a single unit and it is administratively burdensome to require a project owner to establish and implement different utility allowances for HOME-assisted and non-HOME assisted units in a project.

Granted by: Marion M. McFadden, Principal Deputy Assistant Secretary for Community Planning and Development.

Date Granted: August 28, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.252(d)(1).

Project/Activity: The City of Santa Rosa, California requested a waiver of 24 CFR 92.252(d)(1) to allow the use of the utility allowance established by the local public housing agency (PHA) for Burbank Avenue Apartments, a HOME-assisted rental project.

Nature of Requirement: The HOME requirements for establishing utility allowances conflict with Project Based Voucher program requirements. It is not possible to use two different utility allowances to set the rent for a single unit and it is administratively burdensome to require a project owner to establish and implement different utility allowances for HOME-assisted and non-HOME assisted units in a project.

Granted by: Marion M. McFadden, Principal Deputy Assistant Secretary for Community Planning and Development.

Date Granted: August 28, 2024.

Reason Waived: The HOME requirements for establishing utility allowances conflict with Project Based Voucher program requirements. It is not possible to use two different utility allowances to set the rent for a single unit and it is administratively burdensome to require a project owner to establish and implement different utility allowances for HOME-assisted and non-HOME assisted units in a project.

Contact: Virginia Sardone, Director, Office of Affordable Housing Programs, Office of Community Planning and Development, Department of Housing and Urban Development, 451 Seventh Street SW, Room 7160, Washington, DC 20410, telephone (202) 708-2684.

Reimbursement Extension Waiver and Alternative Requirement

• Regulation: Section III.F.5 (Reimbursement of pre-application costs of homeowners, renters, businesses, and other qualifying entities) of the Community Development Block Grant disaster recovery (CDBG-DR) Consolidated Notice published in the Federal Register on May 18, 2023 at 88 FR 32046 (the “May 2023 notice”).

Project/Activity: CDBG-DR funds allocated to Sarasota County, Florida and Volusia County, Florida pursuant to the Department of Housing and Urban Development Appropriations Act, 2023 (Pub. L. 117-328, Division L, Title II) approved December 29, 2022 (the “Appropriations Act”) for major disasters occurring in 2022.

Nature of Requirement: The May 2023 notice published in the Federal Register included the Consolidated Notice as Appendix B and made the Consolidated Notice applicable to the CDBG-DR allocations identified in that notice. Specifically, paragraph III.F.5 of the Consolidated Notice (as modified and made applicable by paragraph IV.B.1 (Reimbursement Requirements for Grants Under the Appropriations Acts) in the May 2023 notice) permits grantees to charge to grants the pre-award and pre-application costs of homeowners, renters, businesses, and other qualifying entities for eligible costs these applicants have incurred in response to an eligible disaster covered under the grantee's applicable Federal Register notice. In addition to other requirements, paragraph III.F.5 as modified by paragraph IV.B.1 stipulates that grantees may charge to the grant the eligible pre-application costs of individuals and private entities related to single family, multifamily, and nonresidential buildings, only if (1) the person or private entity incurred the expenses within one year after the applicability date of the notice that announced the initial allocation of CDBG-DR funds (or within one year after the date of the disaster, whichever is later).; and (2) the person or entity pays for the cost before the date on which the person or entity applies for CDBG-DR assistance. The Department received a request and justification from Sarasota County, Florida and Volusia County, Florida to extend the May 23, 2024 deadline to May 23, 2025 for eligible pre-application costs.

Granted by: Marion M. McFadden, Principal Deputy Assistant Secretary.

Date Granted: August 8, 2024.

Reason Waived: After reviewing each grantee's request, the Department determined there was good cause to modify the alternative requirement in III.F.5(1) as established in paragraph IV.B.1 of the May 2023 notice to change the May 23, 2024 deadline to May 23, 2025 for funds provided to Sarasota County, Florida and Volusia County, Florida under the Appropriations Act. The waiver and alternative requirement will allow Sarasota County, Florida and Volusia County, Florida to provide increased accessibility to additional homeowners who have made or will make repairs to their homes, prior to participating in each of the grantees' homeowner reimbursement programs. Due to the significant impacts of the disaster, extended litigation with insurance carriers, and the limited availability of contractors and materials, many homeowners are only now beginning to make repairs as resources become available in the area. Extending the reimbursement deadline will support the recovery process by allowing more low- and moderate-income households to apply for reimbursement of all pre-application costs for 2022 disasters.

Applicability: This waiver is applicable to the CDBG-DR funds awarded for major disasters occurring in 2022 under the Appropriations Act for Sarasota County, Florida and Volusia County, Florida only. The counties may reimburse persons or private entities for disaster related costs incurred until May 23, 2025, for reimbursement programs funded under the Appropriations Act. For any applicant that submits an application prior to the reimbursement deadline of May 23, 2025, the eligible reimbursement period would be from the date of the qualified disaster to the date of the application for each applicant. This waiver and alternative requirement shall expire on May 23, 2025. When reimbursing eligible pre-award and pre-application costs of homeowners, renters, businesses, and other qualifying entities, the counties are reminded to follow all other requirements described in paragraph III.F.5 of the Consolidated Notice, as modified by IV.B.1 of the May 2023 Notice.

Contact: Tennille S. Parker, Director, Office of Disaster Recovery, Office of Community Planning and Development, Department of Housing and Urban Development, 451 Seventh Street SW, Room 7282, Washington, DC 20410, telephone (202) 708-3587.

II. Regulatory Waivers Granted by the Office of Housing

For further information about the following regulatory waivers, please see the name of the contact person that immediately follows the description of the waiver granted.

• Regulation: Temporary Waiver of 24 CFR 202.5(n)(3), Net Worth.

Project/Activity: Temporary Waiver of 24 CFR 202.5(n)(3) Net Worth, for Hope Federal Credit Union (HFCU). This waiver applies to HFCU's Fiscal Years 2022 and 2023 net worth.

Nature of Requirement: Temporary Waiver of the 24 CFR 202.5(n)(3) requirement that “Irrespective of size, each applicant and each approved lender or mortgagee, for participation solely under the FHA single family programs, shall have a net worth of not less than $1 million, plus an additional net worth of one percent of the total volume in excess of $25 million of FHA single family insured mortgages originated, underwritten, purchased, or serviced during the prior fiscal year, up to a maximum required net worth of $2.5 million. No less than 20 percent of the applicant's or approved lender or mortgagee's required net worth must be liquid assets consisting of cash or its equivalent acceptable to the Secretary.” HFCU, a low-income credit union (LICU), maintained its status as a “Well Capitalized Credit Union” pursuant to National Credit Union Administration (NCUA) regulations for Fiscal Years 2022 and 2023 and would have met HUD's net worth standard with the inclusion of secondary capital sources allowed by NCUA as regulatory capital.

Granted by: Julia R. Gordon, Assistant Secretary for Housing—Federal Housing Commissioner.

Date Granted: July 17, 2024.

Reason Waived: Pursuant to the authority contained in 24 CFR 5.110, the above findings constitute good cause for granting the waiver of 24 CFR 202.5(n)(3) for Fiscal Years 2022 and 2023. HFCU would have met HUD's net worth standard for Fiscal Years 2022 and 2023 with the inclusion of secondary capital sources, and in furtherance of alignment with NCUA and the purposes of ECIP.

Contact: Glenn Dumont, Deputy Director, Office of Lender Activities and Program Compliance, Office of Housing, Department of Housing and Urban Development, Jacksonville, FL office, email: glenn.dumont@hud.gov, telephone (202) 402-3725.

• Regulation: 24 CFR 203.18(e)(3) Maximum Mortgage Amounts, Disaster Victims.

Project/Activity: Temporary Partial Waiver of 24 CFR 203.18(e)(3) Maximum Mortgage Amounts, Disaster Victims.

Nature of Requirement: This partial waiver is limited to certain language in § 203.18(e)(3) Maximum Mortgage Amounts, Disaster Victims, for the Hawaii Wildfires Presidentially Declared Major Disaster Area. On August 10, 2023, a Presidentially Declared Major Disaster Area was declared for Maui County, Hawaii (DR-4724-HI). For individuals whose homes were destroyed in the disaster area, FHA offers mortgage insurance on 100 percent financing for the purchase of a new home or reconstruction of an existing home under FHA's 203(h) Mortgage Insurance for Disaster Victims Program. The 203(h) program requirements under 24 CFR 203.18(e)(3) state that, “The application for insurance [must be] filed within one year from the date of such presidential determination, or within such additional period of time as the period of federal assistance with respect to such disaster may be extended”. As it stands, the federal assistance period has passed under DR-4724-HI, and disaster victims seeking 203(h) mortgages are only eligible for FHA insurance if the application for insurance is filed prior to August 10, 2024 as per the requirements under 24 CFR 203.18(e)(3).

Granted by: Julia R. Gordon, Assistant Secretary for Housing—Federal Housing Commissioner.

Date Granted: August 9, 2024.

Reason Waived: Due to the extent of the devastation from the wildfires and the unique geographic location of Maui, making recovery more difficult, HUD has decided to temporarily waive the one-year requirement under 24 CFR 203.18(e)(3) so that applications for FHA mortgage insurance for the 203(h) program may continue to be filed for an additional year through August 10, 2025, pursuant to this waiver. By providing the waiver, which will enable 203(h) financing in Maui for an additional period of time, HUD aims to ensure that eligible borrowers will continue to have the opportunity to obtain FHA-insured financing for the purchase or reconstruction of a Single Family property, promoting stability and resilience in the wake of the Hawaii Wildfires disaster.

Contact: Karina Batkalin, Senior Single Family Housing Advisor, Office of Single Family Program Development, Office of Housing, Department of Housing and Urban Development, Denver, CO office, email: karina.a.batkalin@hud.gov, telephone 1(800) 225-5342.

• Regulation: 24 CFR 242.1.

Project/Activity: The Health Care Authority of the City of Anniston, FHA# 061-22231.

Nature of Requirement: 24 CFR 242.1 requires that debt refinanced with proceeds from a Section 223(f)/242 loan meet HUD's definition of Capital Debt.

Granted by: Julia Gordon, Assistant Secretary for Housing, Federal Housing Commissioner.

Date Granted: July 19, 2024.

Reason Waived: Through its Lender, The Health Care Authority of the City of Anniston (the Authority), located in Anniston, Alabama, applied for Section 223(f)/242 mortgage insurance, to refinance debt. The hospital proposed refinancing several debt issuances with the HUD-insured loan. One small component of one issuance did not meet HUD's definition of Capital Debt, because that component was used for operating expenses. Another small component of one issuance was not eligible to be refinanced with a HUD-insured loan, because the hospital was unable to grant the HUD-insured Lender a first lien on all of the assets originally purchased with that debt. To meet HUD's definition of Capital Debt (a Regulatory requirement unique to HUD's Hospital Mortgage Insurance Program), capital assets must have been purchased with the debt-to-be-refinanced, and those capital assets must be pledged to the HUD-insured Lender upon loan closing. A Regulatory Waiver 24 CFR § 242.1 was required to close the HUD-insured loan.

The waiver is necessary and appropriate in this case, as a large majority of the debt-to-be-refinanced met HUD's definition of Capital Debt. Overall, the amount of ineligible debt is small compared to the size of the Authority. Further, supporting the Authority with a Section 223(f) refinancing meets the mission of the program to provide affordable refinancing opportunities to hospitals that have difficulty obtaining cost-effective financing options from other sources.

Contact: Paul Giaudrone, Underwriting Director, Office of Hospital Facilities, Office of Healthcare Programs, Office of Housing, Department of Housing and Urban Development, 451 7th Street SW, Washington, DC 20410, telephone: 202-402-5684.

• Regulation: 24 CFR 3282.14(b), Request for Alternative Construction, 1/12/21, and 24 CFR 3282.8(l), Multifamily Homes, 9/16/24.

Project/Activity: Regulatory Waiver for Industry-Wide Alternative Construction Letter (AC Letter) for the production of multi-dwelling unit manufactured homes built before March 17, 2025, the effective date of HUD's latest final rule amending the Manufactured Home Construction and Safety Standards.

Nature of Requirement: 24 CFR 3282.14(b), Request for Alternative Construction, requires manufactured housing manufacturers to submit a request for Alternative Construction consideration for the use of construction designs or techniques that do not conform with HUD Standards, to receive permission from HUD to utilize such designs or techniques in the manufacturing process for manufactured homes. 24 CFR 3282.8(l), Applicability, Multifamily homes, states “homes designed and manufactured with more than one separate living unit are not covered by the standards and these regulations.” Until the effective date of the final rule on March 17, 2025, manufactured home producers were not able to build and ship multi-dwelling unit manufactured homes.

Multi-dwelling-unit manufactured home designs, without a waiver of regulations 24 CFR 3282.14(b) and 3282.8(l), could not be approved for design and construction because the homes would have more than one separate living area. The Industry-Wide AC letter, published on September 11, 2024, provided the terms and conditions for interested manufacturers to gain approval of a multi-dwelling-unit manufactured home designs immediately.

Granted by: Julia Gordon, Assistant Secretary for Housing—Federal Housing Commissioner.

Date Granted: September 5, 2024.

Reason Waived: Multi-dwelling unit manufactured homes provide much needed affordable housing, helping to combat America's affordable housing crisis. As an interim solution, HUD's Office of Manufactured Housing Programs (OMHP) published an industry-wide AC letter on September 11, 2024, to provide the terms and conditions for interested manufacturers to build multi-dwelling-unit manufactured homes immediately. To implement this solution, OMHP was granted a regulatory waiver of 24 CFR 3282.14(b), Request for Alternative Construction, and 24 CFR 3282.8(l), Multifamily Homes.

Contact: Teresa B. Payne, Administrator, Office of Manufactured Housing Programs, Office of Housing, Department of Housing and Urban Development, 451 Seventh Street SW, Room 9168, Washington, DC 20410, telephone (202) 402-5365, email: Teresa.L.Payne@hud.gov.

III. Regulatory Waivers Granted by the Office of Public and Indian Housing

For further information about the following regulatory waivers, please see the name of the contact person that immediately follows the description of the waiver granted.

• Regulation: 24 CFR 982.201(e) and 983.251(a)(2).

Nature of Requirement: The regulations pertain to the verification of one's date of birth, income, and disability status within the HCV and PBV programs.

Project/Activity: City of Glens Falls Housing Authority (GFHA).

Granted by: Richard Monocchio, Principal Deputy Assistant Secretary for Public and Indian Housing.

Date Granted: July 2, 2024.

Reason Waived: GHA has provided the following justifications in seeking these waivers:

○ These waivers would allow easier access to the people experiencing homelessness to utilize affordable housing options.

○ The waiting list for the GFHA's HCV program when it opened in March of 2024 received 489 applicants in 5 days, of which 127 met the definition of homeless and they were given a preference on the GFHA's waitlist. This is over 25 percent of the GFHA's applicants.

○ The 2024 annual Point in Time (PIT) count data for the GFHA's Continuum of Care (CoC) area was 529, a rise of nearly 60 percent (59.3 percent) from 2023's PIT count of 332.

○ This population experiences great difficulty obtaining necessary documents like birth certificate, social security cards, and income verification due to various hurdles such as cost to obtain, lack of public transportation, lack of available social workers or case workers in the community to assist them with obtaining documentation.

○ Getting this documentation takes people experiencing homelessness a significant amount of time, up to several months, due to the same hurdles listed above, and is the main barrier for this population to access the GFHA's HCV program.

○ The people experiencing homelessness will continue to battle with the hurdles listed above.

○ The GFHA's leasing success will decline.

○ The area's homeless population may continue to grow.

HUD has found these reasons to be good cause and has granted the aforementioned waivers.

Contact: Waiver Processing Team at HomelessWaivers@hud.gov.

• Regulation: 24 CFR 983.301(f)(4).

Nature of Requirement: HUD may establish a process allowing public housing agencies (PHAs) to adopt project-specific utility allowances.

Project/Activity: Fairfax County Redevelopment and Housing Authority (FCRHA).

Granted by: Richard Monocchio, Principal Deputy Assistant Secretary for Public and Indian Housing.

Date Granted: July 5, 2024.

Reason Waived: FCRHA has indicated that the waiver will promote utility conservation and efficient use of HAP funding. The amount of the utility allowance directly impacts the amount of the HAP; a higher utility allowance results in a higher gross rent, which results in a higher HAP. A utility allowance that more closely matches actual consumption encourages conservative use of utilities and avoids excessive utility allowances. HUD finds this to be good cause and has granted the aforementioned waivers.

Contact: Jerone Anderson, Office of Public and Indian Housing, Department of Housing and Urban Development, 451 Seventh Street SW, Washington, DC 20410, email: Jerone.l.anderson@hud.gov, telephone (202) 402-6709.

• Regulation: 24 CFR 982.201(e) and 983.251(a)(2), 24 CFR 960.259(a), (a)(1), (a)(2), (c) and (c)(1).

Nature of Requirement: These regulations pertain to the verification of date of birth, income, and disability status, as well as the eligibility determination, for the HCV, PBV, and PH programs.

Project/Activity: Housing Authority of Salt Lake City's (HASLC).

Granted by: Richard Monocchio, Principal Deputy Assistant Secretary for Public and Indian Housing.

Date Granted: July 24, 2024.

Reason Waived: HASLC provided the following justification for these waivers: A significant population in the jurisdiction is experiencing homelessness with the 2023 Point-in-Time count for Salt Lake County reporting an increase over the previous year.

○ In 2022, there were a total of 2,095 individuals in Salt Lake County (281 unsheltered and 1,814 sheltered homeless individuals).

○ In 2023, that number increased to 2,297 (435 unsheltered and 1,862 sheltered).

○ In the 2023 Point-in-Time count, Salt Lake County saw a 21% increase in the number of individuals experiencing chronic homelessness when compared to 2022 (753 in 2023 compared to 567 in 2022).

○ The HASLC administers 99 emergency housing vouchers (EHVs), over 100 project-based vouchers with a homeless requirement, and over 200 HUD-VASH vouchers. Homeless families also apply through HASLC's other programs. Approximately 24 percent of applicants on the regular, tenant-based HCV waitlist report being in shelter or living on the street. Another 50 percent of applicants report being at risk of losing their current housing. The HASLC has found that applicants experiencing homelessness take longer to complete the verification process, as many do not have the documentation needed for verification readily available. The waivers available with the EHV program have been very helpful in expediting the timeframe to get homeless families housed.

○ When disability status verification is required, there can be significant delays for applicants experiencing homelessness. These delays include obtaining a Social Security Disability Insurance letter if lost/misplaced, lack of transportation, communication (can be especially difficult for unhoused families), and changes of the applicant's phone number without notifying the HASLC. The timeframes vary for obtaining the verification. As an example, the SSDI letter can take two weeks to receive, however the timeline can be longer if the family is no longer in the shelter, or the address provided to the Social Security Administration has changed. Most homeless families do not have an online account to request the letter online. Many homeless individuals have a disability that may require assistance in obtaining the documentation. Lack of transportation to the HASLC's office to provide the letter (or lack of access to email or cost to mail) can add to the delays as well.

Contact: Waiver Processing Team at HomelessWaivers@hud.gov.

• Regulation: 24 CFR 982.201(e) and 983.251(a)(2).

Nature of Requirement: These regulations pertain to the verification of date of birth, income, and disability status, as well as the eligibility determination, for the HCV and PBV programs.

Project/Activity: Housing Authority of the City of Los Angeles (HACLA).

Granted by: Richard Monocchio, Principal Deputy Assistant Secretary for Public and Indian Housing.

Date Granted: July 31, 2024.

Reason Waived: HACLA provided the following justification for these waivers: On July 18, 2023, HUD approved HACLA's regulatory waiver request which allowed for self-certification of date of birth and disability status for people experiencing homelessness at admission. Subsequently, on August 17, 2023, the Department approved a regulatory waiver allowing self-certification of income verification for people experiencing homelessness at admission. These waivers were set to expire August 17, 2024. The HACLA asserted that the implementation of these waivers has resulted in the following:

○ As of June 30, 2024, these waivers have been used to expedite housing assistance for 1,075 families.

○ 46 percent of new admissions for HCV and PBV families experiencing homelessness benefited by removing or reducing programmatic, regulatory, and other barriers that systematically delay or deny access to housing for households with the highest need.

○ Results of the 2024 point-in-time homeless count released Friday, June 28, 2024, show a 2.2 percent drop in the population of unhoused people living in the city of Los Angeles, from 46,260 in 2023 to 45,252. It is noteworthy considering that the 2023 figure was up 10 percent from 41,980 in 2022.

The 2024 Greater Los Angeles Homeless Count for the City of Los Angeles reports the following:

○ 45,252 people experiencing homelessness (12,977 sheltered and 29,275 unsheltered).

○ 40,507 households experiencing homelessness (12,295 sheltered and 28,112 unsheltered).

Of these households, 1704 sheltered and 514 unsheltered households have at least one child under the age of 18 years old.

○ 18,936 are chronically homeless, which is defined as a household with any member who has a long-term disabling condition and has been homeless for 12 months or more within the past 3 years as specified by HUD.

On December 12, 2022, the Mayor of the City of Los Angeles declared a state of emergency on homelessness. There are more than 4,000 HCV and PBV units available within the HACLA's allocation for individuals and families experiencing homelessness within the City of Los Angeles that will benefit from the Department's approval of alternative requirements that the HACLA can implement to respond to the homelessness emergency declaration. Approval of these waivers to expedite and facilitate the leasing process of individuals experiencing homelessness during the City of Los Angeles homeless declaration will assist the HACLA on setting a path to end homelessness in line with United States Interagency Council on Homelessness' (USICH) strategic plan. HUD finds this to be good cause and has granted the aforementioned waivers.

Contact: Waiver Processing Team at HomelessWaivers@hud.gov.

• Regulation: 24 CFR 982.201(e) and 983.251(a)(2), 24 CFR 960.259(a), (a)(1), (a)(2), (c) and (c)(1).

Nature of Requirement: These regulations pertain to the verification of date of birth, income, and disability status, as well as the eligibility determination, for the HCV, PBV, and PH programs.

Project/Activity: Housing Authority of the City and County of Denver (DHA).

Granted by: Richard Monocchio, Principal Deputy Assistant Secretary for Public and Indian Housing.

Date Granted: August 20, 2024.

Reason Waived: The DHA's justification of the need for the waivers is as follows:

○ The Metro Denver Homeless Initiative Point-in-Time Count shows there are over 5,000 people experiencing homelessness in the City and County of Denver on any given night.

○ Over 300 individuals passed away in 2023 while homeless.

• The process of securing a birth certificate can take approximately 6-8 weeks (assuming the individual was born in Colorado; securing an out of state birth certificate is an even longer process) and securing a Colorado identification takes roughly 2 weeks from the point of getting an appointment—a process with its own time and capacity limitations.

○ Verification of disability also can significantly slow down the process of moving an individual into housing. As different individuals may have different health providers, identifying the correct partner to provide a verification of disability can be a challenge. In addition, in cases where a disabled individual cannot easily get to a medical provider to receive verification due to a physical limitation, this can delay the verification process for months.

○ The DHA has dedicated over 20 percent of its vouchers to project-basing specifically to developers who have dedicated housing to the homeless population, of which approximately 85 percent are leased.

○ Overall, DHA's leasing is not optimal for the population in most need of housing (homeless). Initial admission flexibilities around document verification are some of the DHA's biggest concerns.

HUD finds this to be good cause and has granted the aforementioned waivers.

Contact: Waiver Processing Team at HomelessWaivers@hud.gov.

• Regulation: 24 CFR 982.201(e) and 983.251(a)(2).

Nature of Requirement: These regulations pertain to the verification of date of birth, income, and disability status, as well as the eligibility determination, for the HCV and PBV programs.

Project/Activity: Los Angeles County Development Authority (LACDA).

Granted by: Richard Monocchio, Principal Deputy Assistant Secretary for Public and Indian Housing.

Date Granted: September 17, 2024.

Reason Waived: LACDA's justification of the need for the waivers is as follows:

○ Homelessness in Los Angeles County is at crisis levels as of the last regional homeless count conducted in early 2024 by the Los Angeles Homeless Services Authority. As of the 2024 Los Angeles County Point in Time Count, there are 75,312 homeless individuals in Los Angeles County. Of the 75,312 homeless individuals, 22,947 are sheltered and 52,365 are unsheltered.

○ The Mayor of the City of Los Angeles and the Los Angeles County Board of Supervisors both proclaimed states of emergency on homelessness for their jurisdictions to expand the availability of resources and accelerate the process of transitioning persons experiencing homelessness into safe and stable housing.

○ According to a study conducted by the U.S. Government Accountability Office in February 2024, “homeless individuals often lack a reliably safe place to store identification cards and other important personal documents, making these items subject to loss, destruction by the elements, and theft.” A recent Supreme Court ruling regarding homeless encampments has motivated the Governor of California to issue an Executive 2 Order (N-1-24), which orders state agencies to remove homeless encampments from public property. As a result, Los Angeles County is under pressure to swiftly address and remove the homeless encampments across the county. The LACDA respectfully requests these waivers in anticipation of sweeping removals of the homeless encampments when local law enforcement or sanitary departments remove these homeless individuals and their belongings from an area. Further, the safe removal of homeless encampments located along freeways is expected to drive many unsheltered individuals into the county area. Once documents are lost, replacing them can be especially difficult as they are often coupled with long wait times or can be financially burdensome.

○ The LACDA's case managers found that during the Emergency Housing Voucher (EHV) eligibility determination, the self-certification of income flexibility provided relief to families and individuals experiencing homelessness since many were alleviated of the barrier to providing current and consecutive computer-generated documentation. The self-certification of income flexibility through the EHV program permitted the LACDA to render program eligibility decisions within an average of 90-days, whereas, under normal HCV program rules and operations, program eligibility decisions are determined more than 90-days. The requested flexibilities related to the self-certification of income for individuals experiencing homelessness would assist LACDA in expediting HCV rental assistance eligibility.

• For the PBV Program, the average time for processing applications for a homeless applicant is up to 60 days from the date the PBV program staff receive the application. Non-homeless families with no social barriers range from 21 to 30 days.

HUD finds this to be good cause and has granted the aforementioned waivers.

Contact: Waiver Processing Team at HomelessWaivers@hud.gov.

• Regulation: 24 CFR 982.201(e) and 983.251(a)(2), 24 CFR 960.259(a), (a)(1), (a)(2), (c) and (c)(1).

Nature of Requirement: These regulations pertain to the verification of date of birth, income, and disability status, as well as the eligibility determination, for the HCV, PBV, and PH programs.

Project/Activity: Louisville Metro Housing Authority (LMHA).

Granted by: Richard Monocchio, Principal Deputy Assistant Secretary for Public and Indian Housing.

Date Granted: September 17, 2024.

Reason Waived: LMHA's justification of the need for the waivers is as follows:

○ The state of Kentucky and Jefferson County have a substantial population of individuals experiencing homelessness within the PHA's jurisdiction. Over the past decade, Kentucky has witnessed a 30 percent increase in homelessness, as indicated by the Pointin-Time count. Jefferson County, the largest county in the state, has experienced a 40 percent increase in homelessness over the last five years.

○ The current requirement for documents such as an unexpired photo identification cards or birth certificates as proof of age presents time and cost barriers due to the need for multiple verification documents, which can take approximately 30 days and up to $30 to obtain.

○ Transit Authority of River City, Louisville Metro/Jefferson County's public transportation system, plans to reduce routes and services by 2025, further limiting access to community partners and necessary services for homeless populations.

○ Community partners are struggling with caseloads 75 percent greater than ideal due to outdated budgets. Homelessness in Kentucky has increased by 30 percent statewide and 2 40 percent in Jefferson County over recent years, and the number of professional case workers to assist persons experiencing homelessness is limited.

○ Approval of the requested waivers will allow the LMHA to reduce wait times and provide housing sooner, offering more reliable and healthy living environments.

○ With this waiver approval, individuals can begin the housing process while awaiting final identification documents, reducing delays.

○ Approval can reduce barriers at the identification and verification level, easing intake processing and alleviating some burden on community partners.

HUD finds this to be good cause and has granted the aforementioned waivers.

Contact: Waiver Processing Team at HomelessWaivers@hud.gov.

• Regulation: 24 CFR 982.201(e) and 983.251(a)(2), 24 CFR 960.259(a), (a)(1), (a)(2), (c) and (c)(1).

Nature of Requirement: These regulations pertain to the verification of date of birth, income, and disability status, as well as the eligibility determination, for the HCV, PBV, and PH programs.

Project/Activity: Lakeland Housing Authority (LHA).

Granted by: Richard Monocchio, Principal Deputy Assistant Secretary for Public and Indian Housing.

Date Granted: September 17, 2024.

Reason Waived: LHA's justification of the need for the waivers is as follows:

○ The 2024 Point-in-Time count for Polk County shows a significant population in the jurisdiction is experiencing homelessness. The data shows there are 921 households who are considered homeless. There is a total of 1,300 people experiencing homelessness in the area. This is comprised of 339 people who are under 18 years old and 93 people who are 65 years of age or older. The LHA's jurisdiction has 230 households in emergency status, which is about 25 percent of the total amount of households experiencing homelessness.

○ The LHA offers the homeless preference on the waiting list. Due to the PHA's expedited processing for the homeless preference, the LHA can start the eligibility process within 3-5 days versus the average 15-day timeframe for other applicants. However, a barrier to progressing further exists once an applicant experiencing homelessness is selected from the waiting list as they have trouble providing required documents, because the documents may have been stolen while in a shelter or lost while moving from place to place.

○ The percentage of applicants experiencing homelessness that do not have income or other documentation is over 50 percent. In some cases, applicants may need identification 2 cards and other forms of documentation and may not have the money to obtain their supporting documents. Lack of income and transportation are other major barriers. Emergency Housing Voucher participants have access to public transportation, but many do not have personal transportation that may be necessary to access documentation.

○ The LHA has a Continuum of Care Program with the Homeless Coalition of Polk County. Due to the challenges the community faces such as the lack of affordable housing, obtaining such housing with a history of evictions, poor credit, and/or criminal records is nearly impossible. However, with the flexibilities the waivers offer, the LHA believes the community will thrive in helping people experiencing homelessness with less burden.

HUD finds this to be good cause and has granted the aforementioned waivers.

Contact: Waiver Processing Team at HomelessWaivers@hud.gov

• Regulation: 24 CFR 983.301(f)(4).

Nature of Requirement: HUD may establish a process allowing PHAs to adopt project-specific utility allowances. Absent the establishment of such a project-specific utility allowance, the PHA's utility allowance schedule as determined under 24 CFR 982.517(b)(2)(i) or (ii) applies to both the tenant-based and PBV programs.

Project/Activity: Bucks County Housing Authority (BCHA).

Granted by: Richard Monocchio, Principal Deputy Assistant Secretary for Public and Indian Housing.

Date Granted: July 15, 2024.

Reason Waived: BCHA has provided good cause stating the waiver will promote utility conservation and efficient use of HAP funding, thereby providing a utility allowance that more closely matches the actual consumption for the Lighthouse Norton Ave property and encourages conservative use of utilities. HUD finds this to be good cause and has granted the aforementioned waiver.

Contact: Jerone L. Anderson, Housing Programs Specialist, Housing Voucher Management and Operations Division, Office of Public and Indian Housing, Department of Housing and Urban Development, 451 Seventh Street SW, Room 6128, Washington DC; email Jerone.l.anderson@hud.gov or telephone (202) 402-6709.

Extended Streamlined Waivers

• Regulation: 24 CFR 982.505(c)(4) Increase in Payment Standard During Housing Assistance Payment (HAP) Contract Term.

Project/Activity: Notice PIH 2023-29 Extension of Certain Regulatory Waivers for the Housing Choice Voucher (including Mainstream) Program and Streamlined Review Process.

Nature of Requirement: If the payment standard amount is increased during the term of the HAP contract, the increased payment standard amount shall be used to calculate the monthly housing assistance payment for the family beginning at the effective date of the family's first regular reexamination on or after the effective date of the increase in the payment standard amount.

Reason Waived: The PHAs were authorized to increase the payment standards for families at any time after the effective date of the payment standard increase, rather than waiting for the next regular reexamination. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for earlier implementation of increased payment standards for families helped ensure that families living in rental markets with ongoing fluctuations and disruptions were not adversely impacted by rapidly increasing rents.

Granted by: Dominique Blom, General Deputy Assistant for Public and Indian Housing.

Contact: Tesia Anyanaso, Office of Field Operations/Coordination and Compliance Division, Office of Public and Indian Housing, 451 Seventh St. SW, Suite 3180, Washington, DC 20410-5000, or email to PIH_Expedited_Waivers@hud.gov.

Code | PHAs | Waiver signed
MO030 | Lee's Summit Housing Authority | 7/11/2024

• Regulation: 24 CFR 982.503(b)(1)(iii) Exception Payment Standards up to 120% for PHAs that are currently approved for exception payment standard SAFMRs.

Project/Activity: Notice PIH 2023-29 Extension of Certain Regulatory Waivers for the Housing Choice Voucher (including Mainstream) Program and Streamlined Review Process.

Nature of Requirement: At the request of a PHA administering the HCV program under Small Area FMRs, HUD may approve an exception payment standard for a Small Area FMR area above the 110 percent of the published FMR in accordance with conditions set forth by Notice in the Federal Register.

Reason Waived: The PHAs were authorized to adopt a payment standard above the basic range, up to 120 percent of the Small Area FMR. These waivers were approved consistent with the streamlined regulatory waiver process in Notice PIH 2023-29, which allowed PHAs to request regulatory waivers that would assist PHAs in responding to ongoing fluctuations and disruptions in the rental market by providing more flexibility with establishing and applying payment standards. These waivers were provided to the PHAs because allowing for an exception payment standard up to 120 percent of the Small Area FMR helped ensure that families living in rental markets with ongoing fluctuations and disruptions were not adversely impacted by rapidly increasing rents, and were able to find rental units with their voucher.

Granted by: Dominique Blom, General Deputy Assistant for Public and Indian Housing.

Contact: Tesia Anyanaso, Office of Field Operations/Coordination and Compliance Division, Office of Public and Indian Housing 451 Seventh St SW, Suite 3180, Washington, DC 20410, or email to PIH_Expedited_Waivers@hud.gov.

Code | PHAs | Waiver Signed
AZ028 | Chandler Housing Authority | 2/9/2024

[FR Doc. 2025-05332 Filed 3-27-25; 8:45 am]

BILLING CODE 4210-67-P